DEPARTMENT OF ENERGY

Federal Energy Regulatory Commission

[Project No. 2628-066]

Availability of the Draft Environmental Impact Statement for the R.L. Harris Hydroelectric Project, Alabama Power Company, and Public Meetings Soliciting Comments

November 21, 2024.

In accordance with the National Environmental Policy Act of 1969 ¹ and the Federal Energy Regulatory Commission's (Commission) regulations, 18 CFR part 380, the Office of Energy Projects has reviewed the application for relicense for the R.L. Harris Hydroelectric Project (Harris Project) (FERC No. 2628) and has prepared a draft environmental impact statement (EIS) for the project. The project is located on the Tallapoosa River near the City of Lineville in Randolph, Clay, and Cleburne Counties, Alabama. The Harris Project also includes land within the James D. Martin-Skyline Wildlife Management Area located approximately 110 miles north of Harris Lake in Jackson County, Alabama.

¹ National Environmental Policy Act of 1969, amended (Pub. L. 91-190. 42 U.S.C. 4321-4347, as amended by Pub. L. 94-52, July 3, 1975, Pub. L. 94-83, August 9, 1975, Pub. L. 97-258, 4(b), September 13, 1982, Pub. L. 118-5, June 3, 2023). On May 20, 2024, CEQ issued updated regulations that went into effect for new NEPA processes begun after July 1, 2024. 40 CFR 1506.12 (2024). This action is subject to CEQ's previous regulations; thus, citations throughout this document will refer to the 2023 regulations.

The draft EIS contains staff's analysis of the applicant's proposal and the alternatives for relicensing the Harris Project. The draft EIS documents the views of governmental agencies, non-governmental organizations, affected Native-American tribes, the public, the license applicant, and Commission staff.

The Commission provides all interested persons with an opportunity to view and/or print the draft EIS via the internet through the Commission's Home Page (http://www.ferc.gov/), using the “eLibrary” link. Enter the docket number, excluding the last three digits in the docket number field, to access the document. For assistance, contact FERC Online Support at FERCOnlineSupport@ferc.gov, or toll-free at (866) 208-3676, or for TTY, (202) 502-8659.

You may also register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or OPP@ferc.gov.

All comments must be filed by January 20, 2025.

The Commission strongly encourages electronic filing. Please file comments using the Commission's eFiling system at https://ferconline.ferc.gov/eFiling.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number P-2628-066.

Anyone may intervene in this proceeding based on this draft EIS (18 CFR 380.10). You must file your request to intervene as specified above.² You do not need intervenor status to have your comments considered.

² Interventions may also be filed electronically via the internet in lieu of paper. See the previous discussion on filing comments electronically.

In addition to or in lieu of sending written comments, you are invited to attend a public meeting that will be held to receive comments on the draft EIS. Commission staff will hold two public meetings for the purpose of receiving comments on the draft EIS. All interested individuals and entities will be invited to attend one or both of the public meetings. The dates and times of the public meetings are listed below.

Evening Meeting

Date: Monday, December 16, 2024.

Time: 6 p.m. to 8 p.m. Central Daylight Time.

Location: Wedowee Marine South, 9681 Highway 48, Lineville, Alabama 36266.

Daytime Meeting

Date: Tuesday, December 17, 2024.

Time: 9 a.m. to 11 a.m. Central Daylight Time.

Location: Wedowee Marine South, 9681 Highway 48, Lineville, Alabama 36266.

Commission staff will moderate the meetings. The meetings will begin promptly at their respective start times listed above. At the start of each meeting, Commission staff will provide a brief overview of the meeting format and objectives. Individual oral comments will be taken on a one-on-one basis with a court reporter (with Commission staff present). This format is designed to receive the maximum number of oral comments in a convenient way during the timeframe allotted. If you wish to speak, Commission staff will hand out numbers in the order of your arrival. If all individuals who wish to provide comments have had an opportunity to do so, Commission staff may conclude the meeting a half hour earlier than the scheduled time.

Comments will be recorded by the court reporter and become part of the public record for this proceeding. Transcripts will be publicly available on FERC's eLibrary system. If a significant number of people are interested in providing oral comments in the one-on-one settings, a time limit may be implemented for each commentor.

It is important to note that the Commission provides equal consideration to all comments received, whether filed in writing or provided orally at a public meeting. Interested parties who choose not to speak or who are unable to attend the draft EIS meetings may provide written comments and information to the Commission as described above.

For further information, contact Sarah Salazar at (202) 502-6863, or sarah.salazar@ferc.gov.

Dated: November 21, 2024.
Debbie-Anne A. Reese,
Secretary.

[FR Doc. 2024-27969 Filed 11-27-24; 8:45 am]

BILLING CODE 6717-01-P